POSTAL SERVICE

Plan for Secure Postage Meter Technology

AGENCY: Postal Service.

ACTION: Clarification of final plan.

SUMMARY: The Postal Service published the final plan for phases III and IV of the Postal Service's Plan for Secure Postage Meter Technology in the Federal Register on November 15, 2001 (Vol. 66, No. 221, pages 57492-57494). This notice clarifies the definition of phase III and IV meters in the previous notice and details the requirements for each meter manufacturer to notify all customers of the retirement plan for any affected meters.

DATES: This clarification pertains to the final plan that was effective November 15, 2001.

FOR FURTHER INFORMATION CONTACT: Wayne Wilkerson by fax at (703) 292-4073.

SUPPLEMENTARY INFORMATION: In 1995, the Postal Service, in cooperation with all authorized postage meter manufacturers, began a phaseout of all mechanical postage meters because of identified cases of indiscernible tampering and misuse. Postal Service revenues were proven to be at serious risk. The completion of this effort, which resulted in the withdrawal of 776,000 mechanical meters from service, completed phase I of the Plan for Secure Postage Meter Technology. Phase II of the plan, the retirement of electronic meters that are manually set by Postal Service employees, is now being implemented. The plan for phases III and IV, describing the retirement of meters with nondigitally printed indicia, was published for comment in the Federal Register, August 21, 2000 (Vol. 65, No. 163, pages 50723-50724). Comments on the proposed plan were due by October 5, 2000. Responses to the comments and the final plan were published in the Federal Register on November 15, 2001. This notice clarifies the definition of the meters affected and the requirements for each manufacturer to notify customers of the plan.

Clarification of the Final Postal Service Plan for the Retirement of Letterpress Postage Meters

(Changes are shown in italicized text.)

Phases III and IV of the Postal Service proposed Plan for Secure Postage Meter Technology affect non-digitally printing meters that are remotely reset under the Computerized Meter Resetting System (CMRS). The affected meters are those meters that print indicia using older letterpress technology rather than digital printing, even if they have a digital display. If such a meter has an additional feature that automatically disables the meter if it is not reset within a specified time period or when certain preprogrammed criteria are met, it is called an enhanced meter. Phase III of the proposed plan required that the users of nonenhanced CMRS letterpress meters be notified of the schedule for the retirement of their meters by December 31, 2001. The placement of nonenhanced CMRS letterpress meters must cease by December 31, 2002, and these meters must be off the market and withdrawn from service by December 31, 2006. Prior to the signing of a contract for the new placement of any nonenhanced CMRS non-digitally printing meter, the manufacturer placing the meter must notify the customer that the meter must be withdrawn from service by December 31, 2006. Phase IV of the proposed plan requires that the customers of enhanced CMRS letterpress meters must be notified of the schedule for the retirement of their meters by June 30, 2003. The placement of enhanced CMRS letterpress meters must cease by June 30, 2004, and these meters must be off the market and withdrawn from service by December 31, 2008. Prior to the signing of a contract for the new placement of any enhanced CMRS non-digitally printing meter, the manufacturer placing the meter must notify the customer that the meter must be withdrawn from service by December 31, 2008.

Stanley F. Mires,
Chief Counsel, Legislative.

[FR Doc. 02-3411 Filed 2-12-02; 8:45 am]

BILLING CODE 7710-12-P